DEPARTMENT OF COMMERCE

National Oceanic and Atmospheric Administration

RIN 0648-XV116

Gulf of Mexico Fishery Management Council; Public Meeting

AGENCY: National Marine Fisheries Service (NMFS), National Oceanic and Atmospheric Administration (NOAA), Commerce.

ACTION: Notice of a public meeting.

SUMMARY: The Gulf of Mexico (GMFMC) and South Atlantic Fishery Management Councils (SAFMC) will hold a joint meeting of its Spiny Lobster Advisory Panels (AP).

DATES: The meeting will convene on Wednesday, November 13, 2019, 8:30 a.m. to 4:30 p.m., EST. For agenda details, see SUPPLEMENTARY INFORMATION.

ADDRESSES: The meeting will be held at the Hyatt Place Marathon, located at 1996 Overseas Highway, Marathon, FL 33050; telephone: (305) 743-1234.

Council address: Gulf of Mexico Fishery Management Council, 4107 W Spruce Street, Suite 200, Tampa, FL 33607; telephone: (813) 348-1630.

FOR FURTHER INFORMATION CONTACT: Dr. Natasha Mendez-Ferrer, Biologist, Gulf of Mexico Fishery Management Council; natasha.mendez@gulfcouncil.org, telephone: (813) 348-1630 and Christina Wiegand, Fishery Social Scientist, South Atlantic Fishery Management Council; christina.wiegand@safmc.net, telephone: (843) 571-4366. The Councils' websites, www.gulfcouncil.org and https://safmc.net, also has details on the meeting location, proposed agenda, webinar listen-in access, and other materials.

SUPPLEMENTARY INFORMATION: The following items are on the agenda, though agenda items may be addressed out of order (changes will be noted on the Councils' website when possible.)

Wednesday, November 13, 2019; 8:30 a.m.-4:30 p.m.

The meeting will begin with introduction of members, adoption of agenda; and, approval of the Joint GMFMC and SAFMC Spiny Lobster AP minutes from the April 25, 2016 meeting.

Council staff will review the scope of work; followed by a presentation by the Florida Keys National Marine Sanctuary staff, and a discussion on the proposal's implications for Spiny Lobster fisheries management. The APs will discuss recommendations; the state of the Spiny Lobster fishery; and suggest future AP meeting discussion topics.

—Meeting Adjourns

The meeting will be broadcast via webinar. You may register for the listen-in access by visiting www.gulfcouncil.org and clicking on the Advisory Panel meeting on the calendar. The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: October 23, 2019.
Tracey L. Thompson,
Acting Deputy Director, Office of Sustainable Fisheries, National Marine Fisheries Service.

[FR Doc. 2019-23445 Filed 10-25-19; 8:45 am]

BILLING CODE 3510-22-P